DEPARTMENT OF THE INTERIOR

National Park Service

[NPS-WASO-PPFL-36595; PPWOPPFLF0-PMO00AD05.Y00000; 23XP103905]

Notice of Availability and Request for Comments on Draft Director's Order #36 Concerning National Park Service Policies and Procedures Governing Housing Management

AGENCY: National Park Service, Interior.

ACTION: Notice of availability.

SUMMARY: The National Park Service (NPS) has prepared Director's Order #36 to set forth its policies and procedures to manage Government-furnished housing (GFH), units owned or leased by the Government for which the Government serves as landlord, or lease holder. Once adopted, the policies and procedures in Director's Order #36 and the accompanying Reference Manual 36 will supersede and replace the policies and procedures issued in Director's Order #36: Housing Management, dated August 5, 2009.

DATES: Written comments will be accepted until December 6, 2023.

ADDRESSES: Draft Director's Order #36 is available online at https://www.nps.gov/subjects/policy/new.htm where readers may submit comments electronically.

FOR FURTHER INFORMATION CONTACT: Alicia Overby, Housing Management Program Manager, National Park Service, at housing_management_program@nps.gov, or by telephone at 202-513-7014.

SUPPLEMENTARY INFORMATION: The NPS is updating its current system of internal written instructions. When these documents contain new policy or procedural requirements that may affect parties outside the NPS, they are first made available for public review and comment before being adopted. Director's Order #36 and a reference manual (subsequent to the Director's Order) will be issued. The draft Director's Order provides direction to NPS managers and employees who are responsible for GFH programs; guidance of consistent application and adherence to laws, regulations, and Department of the Interior policies; and requirements and procedures for providing and maintaining GFH.

Public Disclosure of Comments: Before including your address, telephone number, email address, or other personal identifying information in your comment, you should be aware that your entire comment—including your personal identifying information—may be made publicly available at any time. While you may ask us in your comment to withhold your personal identifying information from public review, we cannot guarantee that we will be able to do so.

(Authority: 54 U.S.C. 100101(a) et seq.)

Alma Ripps,
Chief, Office of Policy.

[FR Doc. 2023-24466 Filed 11-3-23; 8:45 am]

BILLING CODE 4312-52-P